DEPARTMENT OF TRANSPORTATION

Federal Railroad Administration

[FRA Docket No. 87-2, Notice. No. 9]

RIN 2130-AB20

Automatic Train Control (ATC) and Advanced Civil Speed Enforcement System (ACSES); Northeast Corridor (NEC) Railroads

AGENCY: Federal Railroad Administration (FRA), Department of Transportation (DOT).

ACTION: Amendments to Order of Particular Applicability Requiring ACSES Between New Haven, Connecticut and Boston, Massachusetts—New Implementation Schedule and Technical Changes

SUMMARY: FRA amends an Order of Particular Applicability (Order) (July 22, 1998, 63 FR 39343), that requires all trains operating on the Northeast Corridor (NEC) between New Haven, Connecticut and Boston, Massachusetts (NEC-North End) to be equipped to respond to the new Advanced Civil Speed Enforcement System (ACSES) system. The amendments include a new implementation schedule and technical changes.

DATES: The amended Order is effective October 19, 2000.

FOR FURTHER INFORMATION CONTACT: W. E. Goodman, Staff Director, Signal and Train Control Division, Office of Safety, Mail Stop 25, FRA, 1120 Vermont Avenue, NW., Washington, DC, 20005 ((202) 493-6325), Paul Weber, Railroad Safety Specialist, Signal and Train Control Division, Office of Safety, Mail Stop 25, FRA, 1120 Vermont Avenue, NW., Washington, DC, 20005 ((202) 493-6268), or Patricia V. Sun, Office of Chief Counsel, Mail Stop 10, 1120 Vermont Avenue, NW., Washington, DC, 20005 ((202) 493-6038).

SUPPLEMENTARY INFORMATION: The Order, as issued on July 22, 1998, set performance standards for cab signal/automatic train control and ACSES systems, increased certain maximum authorized train speeds, and contained safety requirements supporting improved rail service on the NEC. Among other requirements, the Order required all trains operating on track controlled by the National Railroad Passenger Corporation (Amtrak) between New Haven, Connecticut and Boston, Massachusetts (NEC-North End) to be controlled by locomotives equipped to respond to ACSES by October 1, 1999. In a later notice, FRA reset the compliance date for trains operating on the NEC-North End to March 21, 2000, based on information from Amtrak (64 FR 54410, October 6, 1999).

Implementation Schedule and Technical Changes

FRA is making the amendments to this order effective upon publication instead of 30 days after the publication date in order to realize the significant safety and transportation benefits afforded by the ACSES system at the earliest possible time and because no one will be disadvantaged or harmed by the lack of additional notice. Implementation of ACSES on the NEC will provide significant safety and transportation benefits: train speeds of up to 150 miles per hour; a high-speed diverging signal aspect at 80 miles per hour; more efficient handling of both high-speed and conventional trains; new intermediate speeds between 45 miles per hour and 150 miles per hour; the capability for headway improvement in congested commuter areas; and practical staging from present wayside and on-board equipment.

Moreover, as recited above, the basic Order which this Order amends has been in effect since July 22, 1998, and all railroads using the NEC have known the requirements to which they are subject since then. The most recent prior amendment of the Order contemplated use of ACSES north of New Haven, Connecticut, beginning March 21, 2000 and all of the affected railroads aimed to meet that date. Amtrak has represented to FRA that, with the exception of railroads aimed to meet that date. Amtrak has represented to FRA that, with the exception of CSX, all of the operating personnel of each railroad using the NEC have been trained in the use of ACSES and all of the locomotives used by those railroads on the NEC are equipped to use ACSES. CSX employees will be trained prior to implementation of ACSES in the territory in which they operate (Attleboro, Massachusetts to Boston); the amended implementation schedule does not require CSX to complete this training until November 13, 2000. Thus, no one will be disadvantaged or harmed by the lack of additional notice.

On September 25, 2000, Amtrak sent letters to the Providence and Worcester Railroad Company, CSX Transportation (CSX), Connecticut Department of Transportation, and Massachusetts Bay Transportation Authority advising them of the dates on which ACSES will be implemented in the territories where their trains operate, and notifying them that their engines must be equipped and employees trained by those dates.

Amtrak has informed FRA that affected railroads should be ready to implement ACSES according to the schedule below. If there are any changes to the dates listed, Amtrak will provide a minimum of seven days notification to all NEC users prior to cut over.

1. Milepost 139.3 (Stonington, Connecticut) to Milepost 181.0 (Cranston, Rhode Island) on October 21, 2000

2. Milepost 187.0 (Lawn, Rhode Island) to Milepost 218.5 (Transfer, Massachusetts) on November 13, 2000

3. Milepost 113.3 (Nan, Connecticut) to Milepost 139.0 (High St., Rhode Island) on November 27, 2000

4. Milepost 181.0, Cranston, Rhode Island to Milepost 187.0 (Lawn, Rhode Island) and Milepost 218.5 (Transfer, Massachusetts) to Milepost 228.0 (Cove, Massachusetts) on December 18, 2000

5. Milepost 73.6 (Mill River, Connecticut) to Milepost 113.3 (Nan, Connecticut) on January 15, 2001

Work will continue on this major improvement project to facilitate train service at speeds up to 150 miles per hour (mph). Amtrak has submitted a revised highway-rail crossing plan for the 11 remaining highway-rail at grade crossings on the NEC-North End.

FRA has also amended the Order to set February 1, 2001, as the anticipated date for ACSES implementation between Washington, D.C, and New York, New York (NEC-South End). FRA will amend the Order if this date changes as work on the NEC-South End progresses.

FRA has been communicating with Amtrak as work on the project progresses. In addition to the amended implementation schedule, Amtrak has suggested several technical changes to the Order to make it clearer and more accurate. FRA agrees with these suggestions and is modifying the Order accordingly; each change is discussed below.

Since these modifications are merely technical changes, FRA is not reopening the comment period. Providing an additional comment period on the amended implementation schedule would be impractical, unnecessary and contrary to the public interest. The schedule is based on the readiness of particular track segments for implementation, a subject on which Amtrak has provided the most current information. Delay in implementing that schedule would be contrary to the public interest because it would postpone the delivery of substantial safety and operational benefits that the system will provide as explained above.

For purposes of readability, FRA is reprinting the amended Order in its entirety.

Scope and Applicability

The Order had incorrectly stated that all trains are to be equipped with ACSES “from mile post 73.2 at New Haven, Connecticut to South Station, Boston, Massachusetts.” Extension of ACSES into and west of Mill River Interlocking would involve trains operating to Springfield, Massachusetts, and extension of ACSES into and east of Cove interlocking would involve trains operating to Framingham, Worcester, and Springfield, Massachusetts; and to Albany, New York and west. These routes are not covered by this first phase of the ACSES program.

FRA now corrects the Order to conform with the first phase of ACSES which, as planned, starts at Milepost 73.6 (the east end of Mill River Interlocking) and ends at Milepost 228.0 (the west end of Cove Interlocking). The maximum authorized speed planned over the 1.3 miles between Mill River (Milepost 73.6) and New Haven (Milepost 72.3) is 50 miles per hour. The maximum authorized speed over the 0.7 miles between Cove (Milepost 228.0) and South Station, Boston (Milepost 228.7) is 30 miles per hour within Cove Interlocking and 15 miles per hour east of Cove to South Station.

Performance Standards

Paragraph 1

The Order contains the following sentence: “Permanent restrictions shall be loaded into the onboard computer by direct data transfer from a verified database.” Amtrak asked for clarification, since under ACSES, permanent restrictions will be loaded into individual transponders directly from verified data messages prepared from a verified database. As a locomotive traverses the territory, its onboard computer is designed to receive messages from the transponders in a timely manner. FRA will accordingly reword the relevant sentence in Paragraph 1 to read “Permanent restrictions will be loaded into the individual transponders directly from verified data messages prepared from a verified database.”

Paragraph 6a

Amtrak recommended that FRA completely revise paragraph 6a of the Performance Standards to make it more compatible with current Northeast Operating Rules Advisory Committee (NORAC) operating rules and better explain the use of data radios in releasing the positive stop when conditions warrant. FRA agrees with this recommendation and will revise the paragraph to read as follows:

Failure of cab Signal/ATC System: In the event of failure of the cab signal/ATC system on board a train, the cab signal/ATC system will be cut out; however ACSES will remain operative and enforce a 79 mph speed limit, and the positive stop at home signals displaying an absolute stop. Movement will be made according to the operating rules that apply to cab signal/ATC failures. Release of the positive stop at home signals displaying an aspect more favorable than stop will be provided through a data radio, with information derived from the interlocking circuitry. In territory without fixed automatic block signals, release of the positive stop will not be provided by the data radio unless “Clear to Next Interlocking” signal is displayed. Until wayside and on board data radios are in service, ACSES may be cut out following an on board cab signal/ATC failure, to avoid unnecessary positive stop enforcement at home signals displaying an aspect more favorable than absolute stop.

Paragraph 6e

Amtrak suggested that the sentence “If the missing transponder is a positive stop enforcement transponder at the distant signal to an interlocking, then the system will treat the missing transponder as if it were present and a stop will be required” is misleading. Amtrak notes that while it is true that a stop will be required due to the redundancy of the transponder set encountered prior to reaching the transponder set at the distant signal, the system will not treat the missing transponder as if it were present, but will instead generate a “missing transponder alarm.” If a transponder were missing, the 125 mph speed restriction will always be enforced by the ATC, but the 110 mph restriction between New Haven and Boston will be required by NORAC rules when the transponder missing alarm is received and acknowledged. FRA therefore corrects the wording of the sentence in question to read “If the missing transponder is a positive stop enforcement transponder at the distant signal to an interlocking, the redundancy of the transponder set encountered prior to reaching the location of the transponder set at the distant signal will require a stop when necessary.”

Paragraph 9a

Amtrak submitted a revised highway-rail crossing plan for the NEC—North End updating the status of the remaining highway-rail at grade crossings between New Haven and Boston, all in Connecticut. The only crossing in Rhode Island, Wolf's Rock Road at Milepost 160.3, was closed on November 1, 1999. Amtrak installed four quadrant gates with loop detectors controlling the exit gates at the School Street crossing at Milepost 131.2 and the Broadway Extension crossing at Milepost 132.3. Amtrak anticipates installing four quadrant gates at the Palmer's Street crossing at Milepost 140.6 on October 21, 2000. Amtrak will complete additional improvements as funding becomes available.

Accordingly, for the reasons stated in the preamble, FRA amends the Order to read as follows:

Final Order of Particular Applicability

Authority: 49 U.S.C. 20103, 20107, 20501-20505 (1994); and 49 CFR 1.49(f), (g), and (m).

Scope and Applicability

This order supplements existing regulations at 49 CFR Part 236 and existing orders for automatic train control on track controlled by the National Railroad Passenger Corporation (Amtrak) on the Northeast Corridor (NEC). This order applies in territory where Amtrak has installed wayside elements of the Advanced Civil Speed Enforcement System (ACSES), permitting high-speed operations under the conditions set forth below.

All railroads operating on high-speed tracks in such equipped territory between Boston, Massachusetts and New Haven, Connecticut (NEC—North End), or on tracks providing access to such high-speed tracks, shall be subject to this order, including the following entities operating or contracting for the operation of rail service—Amtrak;

Connecticut Department of Transportation;

Consolidated Rail Corporation and its successors;

Massachusetts Bay Transportation Authority; and

Providence and Worcester Railroad Company.

The requirement that all trains be equipped with operative on-board ACSES applies as specified in paragraph (2) from Milepost 73.6 (the east end of Mill River Interlocking) to Milepost 228.0 (the west end of Cove Interlocking), but applies only to high-speed trains operating on high-speed tracks between Washington, D.C, and New York, New York (NEC—South End), as set forth in paragraph 9(b).

Definitions

Unless otherwise provided terms used in this order have the same definitions contained in Part 236. For purposes of this order—

“ACSES” means a transponder-based system that operates independent of the cab signal system, and provides enforcement of permanent speed restrictions, temporary speed restrictions, and stop signals at interlockings.

“High-speed train” means a train operating in excess of 125 miles per hour (mph) on the NEC—South End, and 110 mph on the NEC—North End.

“High-speed track” means (1) a track on the main line of the NEC—South End, where the authorized train speed for any class of train exceeds 125 mph, or (2) a track on the main line of the NEC—North End where the maximum authorized train speed for any class of train is in excess of 110 mph.

“Immediately adjacent track” means a track within 30 feet of a high-speed track when measured from track center to track center.

“Signal and train control system” refers to the automatic cab signal/automatic train control system (cab signal/ATC) in effect on the NEC at the date of issuance of this order, as supplemented by ACSES, together with such modifications as Amtrak shall make consistent with this order.

Performance Standards

Effective October 21, 2000, the following performance standards and special requirements shall apply, except for paragraph 9(b), which shall apply February 1, 2001.

1. Except as provided in paragraph 9(b), the signal and train control system shall enforce both permanent and temporary civil speed restrictions (e.g., track curvature, bridges, and slow orders) on all high-speed tracks and immediately adjacent tracks. Permanent restrictions will be loaded into the individual transponders directly from verified data messages prepared from a verified database. Temporary restrictions shall be loaded into the onboard computer by direct data transfer from the computer-aided dispatching system. (For not to exceed 12 months following cut-in of the system, use of temporary transponders programmed with appropriate speed restrictions will be deemed to satisfy this paragraph. Thereafter, use of temporary transponders alone shall be acceptable only in the case of an emergency restriction for which transfer of the restriction into the onboard computers of all affected trains is not practicable.)

2. Except as provided in paragraph 9(b), all trains operating on high-speed track, immediately adjacent track where the maximum authorized speed exceeds 20 mph, or track providing access to high-speed track shall be equipped to respond to the continuous cab signal/speed control system and ACSES.

3. No conflicting aspects or indications shall be displayed in the locomotive cab.

4. The system must enforce the most restrictive speed at any location associated with either the civil/temporary restriction or cab signal aspect.

5. At interlocking home signals and control points on high-speed tracks or protecting switches providing access to high-speed tracks, the signal and train control system shall enforce a positive stop short of the signal or fouling point when the signal displays an absolute stop. The system shall function such that the train will be brought to a complete stop and cannot be moved again until the first of the following events shall occur: (1) The signal displays a more permissive aspect; or (2) in the event of a system malfunction, or system penalty, the train comes to a complete stop, the engineer receives verbal authority to proceed from the dispatcher, and the engineer activates an override or reset device that is located where it cannot be activated from the engineer's accustomed position in the cab. The train may then only travel at restricted speed until a valid speed command is received by the on-board train equipment. For not to exceed 12 months following cut-in of ACSES, release of the positive stop feature, under conditions where the signal displays an aspect more favorable than stop, but not less favorable than restricting, may be accomplished by use of the reset device; thereafter, this function shall be accomplished automatically so that it is not necessary for the engineer to leave his or her accustomed position in the cab.

6. Failure modes of the system will allow for train movements at reduced speeds, as follows:

a. Failure of cab Signal/ATC System: In the event of failure of the cab signal/ ATC system on board a train, the cab signal­/ATC system will be cut out; however ACSES will remain operative and enforce a 79 mph speed limit, and the positive stop at home signals displaying an absolute stop. Movement will be made according to the operating rules that apply to cab signal/ATC failures. Release of the positive stop at home signals displaying an aspect more favorable than stop will be provided through a data radio, with information derived from the interlocking circuitry. In territory without fixed automatic block signals, release of the positive stop will not be provided by the data radio unless “Clear to Next Interlocking” signal is displayed. Until wayside and on board data radios are in service, ACSES may be cut out following an on board cab signal/ATC failure, to avoid unnecessary positive stop enforcement at home signals displaying an aspect more favorable than absolute stop.

b. ACSES failure. If the on-board ACSES fails en route, it must be cut out in a similar manner to the cab signal/ATC system. The engineer will be required to notify the dispatcher that ACSES has been cut out. When given permission to proceed, the train must not exceed 125 mph (NEC-South End) or 110 mph (NEC-North End). All trains with cut out ACSES will operate at conventional train speeds.

c. Cab signals/ATC & ACSES failure. In the event of a failure of the cab signal/ATC system onboard a train, the system shall be cut out and the train shall proceed as provided for in 49 CFR 236.567.

d. Wayside signal system failure. If the wayside signal system fails, train operation will be at restricted speed to a point where absolute block can be established in advance of the train. Where absolute block is established in advance of the train, the train may proceed at speeds not to exceed 79 mph.

e. Missing transponder. If a transponder is not detected where the equipment expected to find the next transponder, the train must not exceed 125 mph (NEC-South End) or 110 mph (NEC-North End) until the next valid transponder is encountered. The 125/110 mph speed restriction will be enforced by the system and “—” will be displayed to indicate that the civil speed is unknown. The audible alarm for civil speeds will sound and must be acknowledged. Speed restrictions previously entered into the system, whether temporary or permanent, will be displayed at the proper time and continue to be enforced. If the missing transponder is a positive stop enforcement transponder at the distant signal to an interlocking, the redundancy of the transponder set encountered prior to reaching the location of the transponder set at the distant signal will require a stop when necessary. Since the previous transponder will have transmitted the distance to the stop location, the stop shall be enforced unless a cab signal is received that indicates the interlocking signal is displaying an aspect more favorable than “Stop,” “Stop & Proceed,” and “Restricting.” The 125/110 mph speed restriction will also be enforced regardless of whether the cab signal aspect is being received.

7. When it becomes necessary to cut out the cab signal/ATC system, ACSES, or both, these systems shall be considered inoperative until the engine has been repaired, tested and found to be functioning properly. Repairs shall be made before dispatching the unit on any subsequent trip.

8. Other requirements applicable to the system are as follows:

a. Aspects in the cab shall have only one indication and one name, and will be shown in such a way as to be understood by the engine crew. These aspects shall be shown by lights and/or illuminated letters or numbers.

b. Entrances to the main line can be protected by electrically locked derails if the speed limit is 15 mph or less. A transponder set shall cut in ACSES prior to movement through the derail and onto the main line. If the speed limit is greater than 15 mph, a positive stop will be required. At entrances from a signaled track, ACSES shall be cut in prior to the distant signal and a positive stop enforced at the home signal.

c. An on-board event recorder shall record, in addition to the required functions of § 229.5(g) [of FRA's Railroad Locomotive Safety Standards (49 CFR Part 229)], the time at which each transponder is encountered, the information associated with that transponder, and each use of the positive stop override. These functions may be incorporated within the on-board computer, or as a stand alone device, but shall continue to record speeds and related cab signal/ATC data, even if ACSES has failed and/or is cut out. The event recorder shall meet all requirements of § 229.135.

9. The following maximum speeds apply on the NEC in territory subject to this order:

a. In ACSES territory where all trains operating on high-speed tracks, adjacent track where the maximum authorized speed exceeds 20 mph, and tracks providing access to high-speed tracks are equipped with cab signal/ATC and ACSES, qualified and ACSES-equipped trainsets otherwise so authorized may operate at maximum speeds not exceeding 150 mph. The maximum speed over any highway-rail crossing shall not exceed 80 mph where only conventional warning systems are in place. Train speeds shall not exceed 95 mph over any highway-rail crossing where arrangements approved by the Associate Administrator for Safety incorporating four-quadrant gates and presence detection are provided and tied into the signal system, such that a train will be brought to a stop should the crossing be determined to be occupied following descent of the gates. Amtrak shall submit for approval of the Associate Administrator for Safety plans for site-specific improvements with timetables for each of the NEC crossings remaining on the NEC-North End.

b. In ACSES territory on the NEC-South End, where access to any high-speed track is prevented by switches locked in the normal position and a parallel route to the high-speed track is provided at crossovers from adjacent tracks, and where no junctions providing direct access exist, qualified and ACSES-equipped trainsets otherwise so authorized may operate to a maximum speed not exceeding 135 mph on such track; and provisions of this order requiring other tracks and trains to be equipped with ACSES do not apply.

10. Schedule and acceptance requirements.

a. This order is effective upon publication.

b. Not later than 45 days following publication of this order, Amtrak shall deliver to the Associate Administrator for Safety, FRA, a final program and timetable for completion of pre-qualification tests, availability of on-board equipment from Amtrak's vendor, staging of installation of on-board equipment for which Amtrak takes responsibility, and testing of all wayside and on-board equipment prior to cut-in.

c. Contingent upon FRA's acceptance of the final program and timetable, and FRA's acceptance of the results of pre-qualification and pre-service tests, compliance with requirements of this order for use of ACSES on the NEC-North End is required on and after October 21, 2000.

d. Amtrak may commence operations under paragraph 9(b) of this order utilizing equipment qualified under 49 CFR Part 213, as revised, following FRA's approval of the elements of the final program, timetable and test results pertinent to the subject territory and operations.

e. Milepost implementation will occur as scheduled below:

1. Milepost 139.3 (Stonington, Connecticut) to Milepost 181.0 (Cranston, Rhode Island) on October 21, 2000.

2. Milepost 187.0 (Lawn, Rhode Island) to Milepost 218.5 (Transfer, Massachusetts) on November 13, 2000.

3. Milepost 113.3 (Nan, Connecticut) to Milepost 139.0 (High St., Rhode Island) on November 27, 2000.

4. Milepost 181.0, Cranston, Rhode Island to Milepost 187.0 (Lawn, Rhode Island) and Milepost 218.5 (Transfer, Massachusetts) to Milepost 228.0 (Cove, Massachusetts) on December 18, 2000.

5. Milepost 73.6 (Mill River, Connecticut) to Milepost 113.3 (Nan, Connecticut) on January 15, 2001.

Issued in Washington, D.C. on October 13, 2000.
John V. Wells,
Deputy Federal Railroad Administrator.

[FR Doc. 00-26922 Filed 10-18-00; 8:45 am]

BILLING CODE 4910-06-P